INTERNATIONAL TRADE COMMISSION

[Investigation No. 332-469]

Conditions of Competition for Certain Oranges and Lemons in the U.S. Fresh Market

AGENCY: United States International Trade Commission.

ACTION: Institution of investigation and scheduling of public hearing.

EFFECTIVE DATE: July 28, 2005.

SUMMARY: Following receipt of the request on July 5, 2005, from the House Committee on Ways and Means, the Commission instituted investigation No. 332-469 Conditions of Competition for Certain Oranges and Lemons in the U.S. Fresh Market, under section 332(g) of the Tariff Act of 1930 (19 U.S.C. 1332(g)).

Background: As requested by the Committee, the Commission will conduct an investigation and provide a report on competitive conditions for certain oranges and lemons in the U.S. fresh market during the period 2000-2004. To the extent possible, the investigation will focus on navel oranges and lemons produced for the fresh market, with information provided on broader segments as appropriate. In its report the Commission will provide, to the extent possible, the following:

• An overview of the global market for oranges and lemons for the fresh market, including production, consumption, and trade;

• Profiles of the orange and lemon fresh-market industries in the United States and principal foreign producer countries, such as Australia, Argentina, Chile, China, Mexico, Spain, and South Africa;

• An analysis of U.S. trade in fresh-market oranges and lemons with major competitor countries, including a description of trade practices and measures; and,

• A comparison of the strengths and weaknesses of the U.S. fresh-market orange and lemon industries with foreign competitors, in such areas as input costs of production (such as labor, land value, water, energy, packing costs, transportation to market, fertilizer and pesticides, taxes, and regulatory compliance), technology, government programs, exchange rates, and pricing and marketing regimes.

As requested, the Commission will transmit its report to the Committee by July 5, 2006.

FOR FURTHER INFORMATION CONTACT: Industry-specific information may be obtained from Joanna Bonarriva, Project Leader (202-205-3312 or joanna.bonarriva@usitc.gov) or Renee Johnson, Deputy Project Leader (202-205-3313 or renee.johnson@usitc.gov), or George Serletis, Deputy Project Leader (202-205-3315 or george.serletis@usitc.gov), Office of Industries, U.S. International Trade Commission, Washington, DC 20436. For information on legal aspects of this investigation, contact William Gearhart of the Office of General Counsel (202-205-3091 or william.gearhart@usitc.gov). Hearing impaired individuals are advised that information on this matter can be obtained by contacting the TDD terminal on (202-205-1810). General information concerning the Commission may also be obtained by accessing its Internet server (http://www.usitc.gov). The public record for these investigations may be viewed on the Commission's electronic docket (EDIS-ONLINE) at http://edis.usitc.gov/hvwebex.

Public Hearing: A public hearing in connection with the investigation will be held at the U.S. International Trade Commission Building, 500 E Street SW., Washington, DC beginning at 9:30 a.m. on February 7, 2006. All persons shall have the right to appear, by counsel or in person, to present information and to be heard. Requests to appear at the public hearing should be filed with the Secretary, United States International Trade Commission, 500 E Street SW., Washington, DC 20436, no later than 5:15 p.m., January 24, 2006. Any prehearing briefs (original and 14 copies) should be filed not later than 5:15 p.m., January 26, 2006. The deadline for filing post-hearing briefs or statements is 5:15 p.m., February 21, 2006. In the event that, as of the close of business on January 24, 2006, no witnesses are scheduled to appear at the hearing, the hearing will be canceled. Any person interested in attending the hearing as an observer or non-participant may call the Secretary (202-205-2000) after January 24, 2006, to determine whether the hearing will be held.

Written Submissions: In lieu of or in addition to participating in the hearing, interested persons are invited to submit written statements concerning the investigation. All submissions should be addressed to the Secretary, United States International Trade Commission, 500 E Street SW., Washington, DC 20436, and should be received no later than the close of business on February 21, 2005. All written submissions must conform with the provisions of section 201.8 of the Commission's Rules of Practice and Procedure (19 CFR 201.8). Section 201.8 of the rules requires that a signed original (or a copy designated as an original) and fourteen (14) copies of each document be filed. In the event that confidential treatment of the document is requested, as least four (4) additional copies must be filed, in which the confidential information must be deleted (see the following paragraph for further information regarding confidential business information). The Commission's rules do not authorize filing submissions with the Secretary by facsimile or electronic means, except to the extent permitted by section 201.8 of the rules (see Handbook for Electronic Filing Procedures, ftp://ftp.usitc.gov/pub/reports/electronic_filing_handbook.pdf ).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available in the Office of the Secretary to the Commission for inspection by interested parties. The Committee has asked that the report that the Commission transmit not contain any confidential business information. Any confidential business information received by the Commission in this investigation and used in preparing the report will not be published in a manner that would reveal the operations of the firm supplying the information.

Persons with mobility impairments who will need special assistance in gaining access to the Commission should contact the Secretary at 202-205-2000.

By order of the Commission.
Issued: August 2, 2005.
Marilyn R. Abbott,
Secretary to the Commission.

[FR Doc. 05-15572 Filed 8-5-05; 8:45 am]

BILLING CODE 7020-02-P